FEDERAL COMMUNICATIONS COMMISSION

47 CFR Part 73

[MM Docket 01-276; FCC 02-209]

Table of Allotments To Delete Noncommercial Reservation on Channel *16, 482-488 MHz, Pittsburgh, PA

AGENCY: Federal Communications Commission.

ACTION: Final rule.

SUMMARY: The Commission has before it a petition filed by WQED Pittsburgh (“QED”), licensee of noncommercial educational television stations WQED(TV), Channel *13 and WQEX(TV), Channel *16 in Pittsburgh, wherein it requests that the Commission dereserve Channel *16 and permit QED to sell the station to ShootingStar, a commercial entity. The Commission grants QED's request and permits QED to sell WQEX(TV) and use the proceeds to improve its financial condition, construct DTV facilities for its remaining station, and fund a permanent programming endowment.

DATES: Effective September 6, 2002.

FOR FURTHER INFORMATION CONTACT: Joyce Bernstein (202) 418-1600, Video Division, Media Bureau.

SUPPLEMENTARY INFORMATION: This is a synopsis of the Commission's Report and Order Amendment of the Television Table of Allotments to Delete Noncommercial Reservation on Channel *16, 482-488 MHz, Pittsburgh, Pennsylvania (“Report and Order”), MM Docket, 01-276, FCC 02-209, adopted July 11, 2002 and released July 18, 2002. The full text of this Report and Order is available for inspection and copying during normal business hours in the FCC Reference Room, Room CY-A257, Portals II, 445 12th Street, SW., Washington, DC, and also may be purchased from the Commission's copy contractor, Vistronix, Inc.

Synopsis of Report and Order

The Report and Order finds that QED remains in financial distress, that it has taken dramatic steps to improve its financial condition, including reducing its workforce by half and selling available assets, and that QED and its auditors both conclude that the sale of WQEX(TV) as a commercial station is crucial to QED's financial recovery. The Report and Order also concludes that the Pittsburgh area can no longer support both WQED(TV) and WQEX(TV), given its population decline, and the downward trend in contributions to QED. On balancing the needs and abilities of QED, given its financial condition and the community from which it derives support, the Commission finds that the continued use of the second channel is no longer necessary to meet the educational, instructional and cultural needs of the Pittsburgh community, especially since upon dereservation and sale of WQEX(TV), and initiation of digital service, QED will be able to substantially increase the amount of free over-the-air educational service.

The Report and Order concludes that QED's circumstances are highly unique and that the public interest would be served by waiving the Commission's policy disfavoring dereservation. The Report and Order also concludes that the record supports waiver of the policy requiring that newly dereserved channels be made available for competing applications.

Procedural Matters

The Commission has determined that the relevant provisions of the Regulatory Flexibility Act of 1980 do not apply to rule making proceeds to amend the TV and DTV Table of Allotments, §§ 73.606 and 73.622(b). See Certification that Sections 603 and 604 of the Regulatory Flexibility Act Do Not Apply to Rule Making to Amend Sections 73.202(b), 73.504, and 73.606(b) of the Commission's Rules, 46 FR 11549, February 9, 1981.

Ordering Clauses

The Commission further finds that unique public interest considerations and benefits support a waiver of the policy set forth in the Sixth Report and Order requiring that newly dereserved channels be made available for competing applications.

It is further ordered, That pursuant to Section 316(a) of the Communications Act of 1934, as amended, the authorization of WQED Pittsburgh for station WQEX(TV) is modified to specify operation on Channel 16 in lieu of Channel *16.

List of Subjects 47 CFR Part 73

Digital television broadcasting, Television.

Federal Communications Commission.
Marlene H. Dortch,
Secretary.

For the reasons discussed in the preamble, the Federal Communications Commission amends 47 CFR part 73 as follows:

PART 73—RADIO BROADCAST SERVICES

1. The authority citation for part 73 continues to read as follows:

Authority: 47 U.S.C. 154, 303, 334 and 336.

§ 73.606 [Amended]

2. Section 73.606, the Table of TV Allotments under Pennsylvania is amended by removing Channel *16 at Pittsburgh and adding in its place Channel 16 at Pittsburgh.

§ 73.622 [Amended]

3. Section 73.622(b), the Table of Digital Television Allotments under Pennsylvania is amended by removing Channel *26 at Pittsburgh and adding in its place Channel 26 at Pittsburgh.

[FR Doc. 02-20071 Filed 8-6-02; 12:45 pm]

BILLING CODE 6712-01-P